DEPARTMENT OF JUSTICE

Notice of Lodging of Proposed Consent Decree Under the Clean Air Act, Emergency Planning and Community Right-to-Know Act, and Comprehensive Environmental Response, Compensation, and Liability Act

On June 20, 2016, the Department of Justice lodged a proposed consent decree with the United States District Court for the District of Massachusetts, in the lawsuit entitled United States v. J.S.B. Industries, Inc., John P. Anderson, as Trustee of 130 Crescent Ave. Realty Trust, and JMG Andover Street Realty, Civil Action No. 1:16-cv-11152-DPW.

The United States filed this lawsuit under Section 112(r)(1) of the Clean Air Act, 42 U.S.C. 7412(r)(1), Sections 304, 311 and 312 of the Emergency Planning and Community Right-to-Know Act of 1986, 42 U.S.C. 11004, 11021, and 11022, and Section 103 of the Comprehensive Environmental Response, Compensation and Liability Act, 42 U.S.C. 9603. The United States' complaint seeks civil penalties and injunctive relief in connection with the use and handling of anhydrous ammonia and sulfuric acid at two JSB baked goods facilities located in Chelsea and Lawrence, Massachusetts, respectively.

The Consent Decree requires the defendants to pay a civil penalty of $156,000, plus interest, and perform a supplemental environmental project, projected to cost $119,000, involving the provision of emergency response equipment to the fire departments serving the Chelsea and Lawrence communities.

The publication of this notice opens a period for public comment on the consent decree. Comments should be addressed to the Assistant Attorney General, Environment and Natural Resources Division, and should refer to United States v. J.S.B. Industries, Inc., et al., D.J. Ref. Nos. 90-5-2-1-10997 and 90-5-2-1-10997/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $6.50 (25 cents per page reproduction cost) payable to the United States Treasury.

Robert E. Maher, Jr.,
Assistant Section Chief, Environmental Enforcement Section, Environment and Natural Resources Division.

[FR Doc. 2016-15077 Filed 6-24-16; 8:45 am]

BILLING CODE 4410-15-P